DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Deoxyhypusine Hydroxylase

Myung Hee Park et al. (NIDCR)

U.S. Provisional Application No. 60/748,879 filed 09 Dec 2005 (HHS Reference No. E-051-2006/0-US-01).

Licensing Contact: John Stansberry; 301/435-5236; stansbej@mail.nih.gov.

Translation initiation factor eIF5A is a highly conserved eukaryotic protein. One of its lysine residues is enzymatically modified, using spermidine, to form an unusual amino acid, hypusine, a posttranslational modification unique to eIF-5A. This eukaryotic initiation factor (eIF5A) and its hypusine modification are essential for mammalian cell proliferation. Inventors at the National Institutes of Health have recently cloned and characterized the enzyme deoxyhypusine hydroxylase (DOHH) that catalyzes the final step in the modification of eIF5A. The inventors have characterized and cloned both the yeast and human recombinant versions of this enzyme.

Studies have shown that metal chelating compounds like deferiprone and ciclopirox olamine that inhibit DOHH activity in cells also inhibit HIV-1 replication in cell culture. These findings suggest potential utility of DOHH as a novel target for anti-cancer and anti-retroviral therapy. These advances could also conceivably lead to the development of small molecule inhibitors that bind to specific sites in the enzyme.

In addition to licensing, the technology is available for further development through collaborative research opportunities with the inventors.

Methods of Treating Cancer Using Pyridine Carboxaldehyde Pyridine Thiosemicarbazone Radiosensitizing Agents

Philip J. Tofilon et al. (NCI)

U.S. Provisional Application No. 60/718,172 filed 16 Sep 2005 (HHS Ref. No. E-319-2005/0-US-01).

Licensing Contact: George G. Pipia; 301/435-5560; pipiag@mail.nih.gov.

Ribonucleotide reductase is the rate-limiting enzyme of de novo DNA synthesis. The enzyme is composed of two homodimer subunits, hRRM1 and hRRM2. Hydroxyurea, a ribonucleotide reductase inhibitor, is commonly used in conjunction with radiotherapy but it its efficacy as shown in many chemoradiation trials is limited. Triapine (2-carboxyaldehyde pyridine thiosemicarbazone), a novel ribonucleotide reductase inhibitor, exhibits sensitivity to the subunit hRRM2 and inhibits ribonucleotide reductase more effectively when compared to hydroxyurea, thus imparting a radiosensitizing effect.

This present invention provides methods of preventing DNA synthesis and DNA repair after exposing cells to ionizing radiation. The present invention further provides methods of treating cancer and other tumors by coadministration of a radiosensitizing amount of Triapine and ionizing radiation.

Methods and Compositions for Treating FUS1 Related Disorders

Michael I. Lerman et al. (NCI)

U.S. Provisional Application No. 60/697,596 filed 07 Jul 2005 (HHS Reference No. E-137-2005/0-US-01).

Licensing Contact: Thomas Clouse; 301/435-4076; clousetp@mail.nih.gov.

The FUS1 gene residing in the 3p21.3 chromosome region may function as a tumor suppressor gene. Results show that FUS1 null mutants show consistent changes in NK cells and secreted antibodies, suggesting that FUS1 plays an important role in the development and activation of the mammalian immune system. The invention relates to methods, systems and transgenic animals useful for screening, diagnosing and treating FUS1 related disorders. Interestingly, targeted disruption of FUS1 gene in mice resulted in a viable and fertile phenotype.

Possible uses of this invention include using the FUS1 protein to modulate and boost the immune system in diseases like cancer and AIDS. Also, the cDNA and the corresponding protein are small and the applications could include gene therapy with appropriate vectors and protein transduction technology.

Dated: February 28, 2006.
Steven M. Ferguson,
Director, Division of Technology Development and Transfer, Office of Technology Transfer, National Institutes of Health.

[FR Doc. 06-2098 Filed 3-3-06; 8:45 am]

BILLING CODE 4140-01-P